DEPARTMENT OF ENERGY

Federal Energy Regulatory Commission

[Docket No. AD21-5-000]

Impact of Electric Vehicles on the Transmission System and Wholesale Electricity Markets; Notice of Roundtable Discussion

Take notice that the Chairman of the Federal Energy Regulatory Commission (FERC or Commission) will convene a roundtable to discuss the increased deployment of electric vehicles (EVs) and EV charging infrastructure nationwide and their impact on and value to the FERC-jurisdictional transmission system and wholesale electricity markets. The purpose of this roundtable is to begin a conversation on the state of EV deployment and identify some of the questions both the Commission and the energy industry will need to address as deployment of EVs increases. The Chairman will lead the roundtable discussion, and Commissioners may participate.

The roundtable will be held on December 3, 2020 from approximately 1:00 p.m. to 3:00 p.m. Eastern Time. The roundtable will be held electronically over WebEx and broadcast on the Commission's website. The roundtable will be open for the public to observe, and there is no fee for attendance. A supplemental notice will be issued prior to the roundtable with further details regarding the agenda and organization, and any changes to the date and/or time of the roundtable. Information on this roundtable will also be posted on the Calendar of Events on the Commission's website, www.ferc.gov, prior to the event. The roundtable event will not be transcribed.

For more information about this roundtable, please contact Michael Hill, 202-502-8703, michael.hill@ferc.gov for technical questions or Sarah McKinley, 202-502-8368, sarah.mckinley@ferc.gov for logistical issues.

Dated: October 30, 2020.
Nathaniel J. Davis, Sr.,
Deputy Secretary.

[FR Doc. 2020-24856 Filed 11-6-20; 8:45 am]

BILLING CODE 6717-01-P